DEPARTMENT OF ENERGY

Federal Energy Regulatory Commission

[Project No. 5069-012]

Kingdom Energy Products; Hillside Clean Energy LLC; Notice of Transfer of Exemption

1. On July 3, 2019, Kingdom Energy Products, exemptee for the Sygitowicz Creek Power Project No. 5069, filed a letter notifying the Commission that the project was transferred from Kingdom Energy Products to Hillside Clean Energy LLC. The exemption from licensing was originally issued on July 14, 1982.¹ The project is located on the Sygitowicz Creek, Whatcom County, Washington. The transfer of an exemption does not require Commission approval.

¹ Douglas S. Marr, 20 FERC ¶ 62,051 (1982). Kingdom Energy Products acquired the rights to construct the project in 1984.

2. Hillside Clean Energy LLC is now the exemptee of the Sygitowicz Creek Hydro Project No. 5069. All correspondence must be forwarded to: Mr. Steven TeVelde, P.O. Box 895, Lynden, WA 98264, Phone: 360-305-2628, Email: stevetevelde@gmail.com.

Dated: October 21, 2019.
Kimberly D. Bose,
Secretary.

[FR Doc. 2019-23324 Filed 10-24-19; 8:45 am]

BILLING CODE 6717-01-P